DEPARTMENT OF COMMERCE

Foreign-Trade Zones Board

[B-36-2023]

Foreign-Trade Zone (FTZ) 142; Partial Authorization of Production Activity; Nexsus Cocoa Services LLC; (Cocoa or Cocoa Equivalent and Sugar Blends); Southern New Jersey

On June 1, 2023, Nexsus Cocoa Services LLC submitted a notification of proposed production activity to the FTZ Board for its anticipated facility within FTZ 142, in Southern New Jersey.

The notification was processed in accordance with the regulations of the FTZ Board (15 CFR part 400), including notice in the Federal Register inviting public comment (88 FR 38019, June 12, 2023). On September 29, 2023, the applicant was notified of the FTZ Board's decision that no further review of the activity is warranted at this time, with the exception of the foreign-status component “refined white sugar,” which was not authorized. The production activity described in the notification was authorized for the other requested finished products and foreign-status components, subject to the FTZ Act and the FTZ Board's regulations, including section 400.14. If the applicant wishes to seek authorization for the foreign-status component “refined white sugar”, it will need to submit an application for production authority, pursuant to section 400.23.

Dated: September 29, 2023.
Elizabeth Whiteman,
Executive Secretary.

[FR Doc. 2023-22130 Filed 10-4-23; 8:45 am]

BILLING CODE 3510-DS-P